DEPARTMENT OF THE INTERIOR

Bureau of Land Management

[LLNMPO0000 L17110000.FV0000]

Notice of Availability of the Draft Rob Jaggers Camping Area Business Plan and Expanded Amenity Fee Schedule for the Fort Stanton/Snowy River National Conservation Area, New Mexico

AGENCY: Bureau of Land Management, Interior.

ACTION: Notice.

SUMMARY: In accordance with the Federal Lands Recreation Enhancement Act (REA), the Bureau of Land Management (BLM), Roswell Field Office, has prepared and is making available to the public the Draft Rob Jaggers Camping Area Business Plan and Expanded Amenity Fee Schedule. The Rob Jaggers Camping Area is located in the Fort Stanton/Snowy River National Conservation Area, NM. The Act authorizes the BLM to charge fees at developed recreation sites that meet certain criteria.

DATES: To ensure that comments will be considered, the BLM must receive written comments on the Draft Business Plan by December 15, 2013.

ADDRESSES: Copies of the Draft Rob Jaggers Camping Area Business Plan are available at the BLM Pecos District Office, 2909 W 2nd St., Roswell NM 88201 or online at: www.blm.gov/nm/roswell. You may submit comments related to the Draft Rob Jaggers Camping Area Business Plan by any of the following methods: Email: cjbrown@blm.gov; Fax: 575-627-0276, Attention: Christopher Brown; Mail: BLM Roswell Field Office, Attention: Christopher Brown, 2909 W 2nd St., Roswell, NM 88201.

FOR FURTHER INFORMATION CONTACT: Christopher Brown, Roswell Field Office, telephone 575-627-0220 (7:45 a.m. to 4:30 p.m.), Monday through Friday; email cjbrown@blm.gov. Persons who use a telecommunications device for the deaf (TDD) may call the Federal Information Relay Service (FIRS) at 1-800-877-833. The FIRS is available 24 hours a day, 7 days a week, to leave a message for the above individual. You will receive a reply during normal business hours.

SUPPLEMENTARY INFORMATION: The Roswell Field Office (Field Office) has proposed an expanded amenity fee schedule for services at the Rob Jaggers Camping Area located at the Fort Stanton/Snowy River National Conservation Area. The REA requires that an expanded amenity fee be considered by a Recreation Resource Advisory Council (RAC). The Roswell Field Office has complied with the REA by presenting the Business Plan to the Pecos District RAC for consideration. The final Business Plan decision process will be made after the six month public comment period. Section 3(g) of REA provides for levy of an “expanded amenity recreation fee” at developed campgrounds characterized by nine standards of available facilities. Having all nine required amenities, the Rob Jaggers Camping Area meets the Congressional criteria for an expanded amenity fee site. While overnight camping would remain free of charge, the use of the amenities at the campground would be available for an expanded amenity fee. The proposed fees are for electric hookup, water hookup, reservation of the group shelter for exclusive use, and use of the dump station. The collected fees would be used for onsite maintenance, improvements, and incidental expenses associated with the volunteer program, such as meals and transportation to and from the worksite. Possible improvements include additional water and electrical stations, fire rings, picnic tables, restrooms, cook grills, and equestrian facilities. The amenity fees are scheduled to be implemented after the December 15, 2013, deadline for public comment.

Before including your address, phone number, email address, or other personal identifying information in your comment, you should be aware that your entire comment—including your personal identifying information—may be made publicly available at any time. While you may ask us in your comment to withhold your personal identifying information from public review, we cannot guarantee that we will be able to do so.

Authority: The Federal Lands Recreation Enhancement Act 2005 as authorized under 16 U.S.C. 6801-6814.

Aden L. Seidlitz,
Associate State Director, New Mexico.

[FR Doc. 2013-18575 Filed 7-31-13; 8:45 am]

BILLING CODE 4310-FB-P